DEPARTMENT OF COMMERCE

National Oceanic and Atmospheric Administration

RIN 0648-XB03

Magnuson-Stevens Fishery Conservation and Management Reauthorization Act Provisions; Recovery Plan for Klamath River Coho

AGENCY: National Marine Fisheries Service (NMFS), National Oceanic and Atmospheric Administration (NOAA), Commerce.

ACTION: Notice of Availability.

SUMMARY: NMFS announces the completion of the Magnuson-Stevens Fishery Conservation and Management Reauthorization Act (MSRA) Klamath River Coho Salmon Recovery Plan (recovery plan). This document fulfills the requirement that a recovery plan for Klamath River coho salmon be completed and made available to the public by the Secretary of Commerce (Secretary) within 6 months of the enactment of the MSRA on January 12, 2007.

ADDRESSES: Persons wishing to obtain a copy of the Recovery Plan can do so by any of the following methods:

• E-mail: KlamathCohoRecoveryPlan.SWR @noaa.gov. Include “Request for Klamath River Coho Recovery Plan” in the subject line of the message.

• Southwest Region website portal: http://swr.nmfs.noaa.gov/klamath/index.htm

• Mail: Rodney R. McInnis, Regional Administrator, Southwest Region, NMFS, 501 West Ocean Blvd., Suite 4200, Long Beach, CA 90802-4213.

FOR FURTHER INFORMATION CONTACT: Irma Lagomarsino, Protected Resources Division, NMFS, at 707-825-5160.

SUPPLEMENTARY INFORMATION: On January 12, 2007, the MSRA was signed into law. The MSRA contains several new requirements related to salmon in the Klamath River Basin, including an obligation for the Secretary to complete a recovery plan for Klamath River coho salmon and make it available to the public within 6 months of the MSRA being implemented. The MSRA recovery plan was developed to satisfy that obligation and should not be confused with the recovery plan that NMFS is currently developing for the federally-listed Southern Oregon/Northern California Coast coho evolutionary significant unit under the Endangered Species Act.

Given the statutory deadline, NMFS compiled and synthesized the best available information on coho salmon in the Klamath River in a cohesive framework to develop the MSRA recovery plan. This plan draws heavily on existing recovery and restoration plans developed with substantial stakeholder participation. The MSRA recovery plan presents long-range guidance for various agencies, organizations and individuals to use as they consider taking actions or pursuing projects that may affect Klamath River coho salmon.

Authority: 16 U.S.C. 1801 et seq.

Dated: July 3, 2007.
Samuel D. Rauch III,
Deputy Assistant Administrator For Regulatory Programs, National Marine Fisheries Service.

[FR Doc. E7-13361 Filed 7-9-07; 8:45 am]

BILLING CODE 3510-22-S